DEPARTMENT OF COMMERCE

National Oceanic and Atmospheric Administration

National Estuarine Research Reserve System

AGENCY: Stewardship Division, Office for Coastal Management, National Ocean Service, National Oceanic and Atmospheric Administration, U.S. Department of Commerce.

ACTION: Notice of public comment period for the South Slough, Oregon National Estuarine Research Reserve management plan revision.

SUMMARY: Notice is hereby given that the Stewardship Division, Office for Coastal Management, National Ocean Service, National Oceanic and Atmospheric Administration, U.S. Department of Commerce is announcing a thirty (30) day public comment period for the revised management plan for South Slough, Oregon National Estuarine Research Reserve management plan revision.

FOR FURTHER INFORMATION CONTACT: Bree Turner at (206) 526-4641 or Erica Seiden at (240) 533-0781 of NOAA's National Ocean Service, Stewardship Division, Office for Coastal Management, 1305 East-West Highway, N/ORM5, 10th floor, Silver Spring, MD 20910.

SUPPLEMENTARY INFORMATION: Pursuant to 15 CFR 921.33(c), the revised plan will bring the reserve into compliance. The South Slough Reserve revised plan will replace the plan previously approved in 2006.

The revised management plan outlines a strategic plan; administrative structure; science, education, public involvement, and training programs of the reserve; resource protection and public access plans; strategies for future land acquisition; and facility development to support reserve operations.

The South Slough Reserve takes an integrated approach to management, linking research, education, coastal training, and resource management functions. The reserve has outlined how it will manage administration and its core programs, providing detailed actions that will enable it to accomplish specific goals and objectives. Since the last Management Plan, the reserve has built out its core programs and monitoring infrastructure; compiled a comprehensive report on environmental and socio-economic conditions of the Coos estuary; and conducted an educational market analysis and needs assessment to understand current needs of teachers and underserved audiences. Additionally, the reserve has developed a disaster response plan, restoration action plan, and improved public access to the reserve through construction of a new non-motorized boat launch areas and enhanced trails.

There will be no boundary change with the approval of the revised management plan. The management plan will serve as the guiding document for the 4,771-acre South Slough Reserve.

View the South Slough Reserve management plan revision on their Web site, at http://www.oregon.gov/dsl/SS/Pages/About.aspx, and provide comments to Hannah Schrager, hannah.schrager@state.or.us.

Dated: April 7, 2017.
Donna Rivelli,
Deputy Associate Assistant Administrator for Management and CFO/CAO, Ocean Services and Coastal Zone Management, National Oceanic and Atmospheric Administration.

[FR Doc. 2017-07565 Filed 4-13-17; 8:45 am]

BILLING CODE 3510-08-P